DEPARTMENT OF ENERGY

Federal Energy Regulatory Commission

Combined Notice of Filings

Take notice that the Commission has received the following Natural Gas Pipeline Rate and Refund Report filings:

Filings Instituting Proceedings

Docket Number: PR18-71-000.

Applicants: Southern California Gas Company.

Description: Tariff filing per 284.123(b),(e)+(g): OSHD Rate Revision Filing—July 2018 to be effective 7/30/2018.

Filed Date: 7/30/18.

Accession Number: 201807305121.

Comments Due: 5 p.m. ET 8/20/18.

284.123(g) Protests Due: 5 p.m. ET 9/28/18.

Docket Number: PR18-72-000.

Applicants: Agua Blanca, LLC.

Description: Tariff filing per 284.123(b),(e)/: Baseline refiled to be effective 7/1/2018.

Filed Date: 7/31/18.

Accession Number: 201807315187.

Comments/Protests Due: 5 p.m. ET 8/21/18.

Docket Number: PR18-73-000.

Applicants: Liberty Utilities (Midstates Natural Gas) Corp.

Description: Tariff filing per 284.123(b),(e)/: Application for Approval of Revised Statement of Rates to be effective 7/1/2018.

Filed Date: 8/2/18.

Accession Number: 201808025047.

Comments/Protests Due: 5 p.m. ET 8/23/18.

Docket Number: PR18-74-000.

Applicants: Columbia Gas of Ohio, Inc.

Description: Tariff filing per 284.123(b),(e)/: COH change Terms and Conditions effective 9-1-2018.

Filed Date: 8/2/18.

Accession Number: 201808025081.

Comments/Protests Due: 5 p.m. ET 8/23/18.

Docket Numbers: RP18-1038-000.

Applicants: Northern Border Pipeline Company.

Description: § 4(d) Rate Filing: Best Bid in GT&C 6.26.4 and 6.37.3 to be effective 9/1/2018.

Filed Date: 8/1/18.

Accession Number: 20180801-5156.

Comments Due: 5 p.m. ET 8/13/18.

Docket Numbers: RP18-789-002.

Applicants: Cheniere Corpus Christi Pipeline, LP.

Description: Compliance filing Baseline Compliance Filing (Metadata Update)—RP18-789-000 to be effective 6/1/2018.

Filed Date: 8/1/18.

Accession Number: 20180801-5164.

Comments Due: 5 p.m. ET 8/13/18.

Docket Numbers: RP18-1039-000.

Applicants: Texas Eastern Transmission, LP.

Description: § 4(d) Rate Filing: Negotiated Rate—Eco-Energy—8952449 to be effective 8/2/2018.

Filed Date: 8/2/18.

Accession Number: 20180802-5023.

Comments Due: 5 p.m. ET 8/14/18.

Docket Numbers: RP18-1040-000.

Applicants: Equitrans, L.P.

Description: § 4(d) Rate Filing: Negotiated Capacity Release Agreements—8/3/2018 to be effective 8/3/2018.

Filed Date: 8/2/18.

Accession Number: 20180802-5113.

Comments Due: 5 p.m. ET 8/14/18.

Docket Numbers: RP18-1041-000.

Applicants: Great Lakes Gas Transmission Limited Par.

Description: Great Lakes Gas Transmission Limited Partnership Semi-Annual Transporter's Use Report.

Filed Date: 7/31/18.

Accession Number: 20180731-5237.

Comments Due: 5 p.m. ET 8/13/18.

Docket Numbers: RP18-1042-000.

Applicants: MoGas Pipeline LLC.

Description: Penalty Revenue Crediting Report of MoGas Pipeline LLC.

Filed Date: 7/31/18.

Accession Number: 20180731-5238.

Comments Due: 5 p.m. ET 8/13/18.

Docket Numbers: RP18-1043-000.

Applicants: UGI Storage Company.

Description: Operational Purchases and Sales Report of UGI Storage Company.

Filed Date: 8/1/18.

Accession Number: 20180801-5211.

Comments Due: 5 p.m. ET 8/13/18.

Docket Numbers: RP18-1044-000.

Applicants: ARP Mountaineer Production, LLC, Summit Natural Resources, LLC.

Description: Joint Petition for Temporary Waiver of Capacity Release Regulations of ARP Mountaineer Production, LLC, et al. under RP18-1044.

Filed Date: 8/2/18.

Accession Number: 20180802-5138.

Comments Due: 5 p.m. ET 8/9/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2018.
Nathaniel J. Davis, Sr.,
Deputy Secretary.

[FR Doc. 2018-17198 Filed 8-9-18; 8:45 am]

BILLING CODE 6717-01-P